DEPARTMENT OF STATE

[Public Notice 4659]

U.S. Advisory Commission on Public Diplomacy; Notice of Meeting

A meeting of the U.S. Advisory Commission on Public Diplomacy will be held at the U.S. Consulate in Shanghai, China, on May 17, 2004 at 10 a.m. The Commissioners will discuss public diplomacy in Asia.

The Commission was reauthorized pursuant to Pub. L. 106-113 (H.R. 3194, Consolidated Appropriations Act, 2000). The U.S. Advisory Commission on Public Diplomacy is a bipartisan presidentially appointed panel created by Congress in 1948 to provide oversight of U.S. Government activities intended to understand, inform and influence foreign publics. The Commission reports its findings and recommendations to the President, the Congress, the Secretary of State and the American people. Current Commission members include Barbara M. Barrett of Arizona, who is the Chairman; Harold C. Pachios of Maine; Ambassador Penne Percy Korth of Washington, DC; Ambassador Elizabeth F. Bagley of Washington, DC; Charles “Tre” Evers III of Florida; Jay T. Snyder of New York; and Maria Sophia Aguirre of Washington, DC.

For more information, please contact Matt J. Lauer at (202) 203-7880.

Dated: April 15, 2004.
Matthew J. Lauer,
Executive Director, U.S. Advisory Commission on Public Diplomacy, Department of State.

[FR Doc. 04-9439 Filed 4-23-04; 8:45 am]

BILLING CODE 4710-11-P